DEPARTMENT OF ENERGY

Federal Energy Regulatory Commission

[Docket No. RP02-468-001]

Garden Banks Gas Pipeline, LLC; Notice of Compliance Filing

October 18, 2002.

Take notice that on October 15, 2002 Garden Banks Gas Pipeline, LLC (Garden Banks) tendered for filing as part of its FERC Gas Tariff—Original Volume No. 1 the following tariff sheets, with a proposed effective date of October 1, 2002:

Substitute Eighth Revised Sheet No. 136

Substitute Second Revised Sheet No. 137

Garden Banks states that the purpose of its filing is to effectuate changes to its tariff to comply with Order No. 587-O, and, a letter order and an errata issued September 26 and October 4, 2002, respectively, in Docket No. RP02-468-000.

Garden Banks states that a copy of this filing has been served upon its customers.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27284 Filed 10-24-02; 8:45 am]

BILLING CODE 6717-01-P